DEPARTMENT OF TRANSPORTATION

Federal Aviation Administration

Notice of Intent To Rule on a Land Release Request at the Trenton-Mercer Airport (TTN), Ewing, NJ

AGENCY: Federal Aviation Administration (FAA) DOT.

ACTION: Notice of intent to rule on a request to release airport land for disposal and request for comment.

SUMMARY: The FAA proposes to rule and is requesting public comment on Mercer County's proposed land release and disposal of 3.428 acres of on-airport property at the Trenton-Mercer Airport, Ewing, NJ. The land was purchased with federal financial assistance through FAAP Grant 9-28-012-5803.

DATES: Comments must be received on or before March 22, 2019.

ADDRESSES: Comments on this application may be mailed or delivered to the following address:

Melinda Montgomery, Manager, Trenton-Mercer Airport, 340 Scotch Road, Suite 200, Ewing, NJ 08628, 609-882-1601

and at the FAA Harrisburg Airports District Office:

Rick Harner, Acting Manager, Harrisburg Airports District Office, 3905 Hartzdale Dr., Suite 508, Camp Hill, PA 17011, (717) 730-2830

FOR FURTHER INFORMATION CONTACT: Charles Trice, Project Manager, Harrisburg Airports District Office, location listed above. Telephone: (717) 730-2843. The request to release airport property may be reviewed in person at this same location.

SUPPLEMENTARY INFORMATION: The following is a brief overview of the request:

The County requests the release of a total of 3.428 acres of property. The property is currently airport-dedicated property, and is occupied by a branch of the Mercer County Library, including the library building itself and parking for the library users. The property will continue to be owned by the County and used for its current purpose. The only change is that the property will no longer be designated as federally obligated airport property. As shown on the Airport Layout Plan, the subject property is to the south and west of Runway 34 and is separated from the rest of airport property by a railroad line. Based on this location the property is not needed now or in the foreseeable future for aeronautical purposes and/or airport development. Through funding the County of Mercer has provided to the airport over the last 6 years, the County has already paid well in excess of the sum of both the fair market fee simple value of the subject property and the fair market value of the lease rate of the subject property over each of the last 6 years combined. Therefore, it is not proposed that the County of Mercer provide any additional funding, so as to secure the release of this acreage from federal obligations.

Any person may inspect the request by appointment at the FAA office address listed above.

Interested persons are invited to comment on the proposed lease. All comments will be considered by the FAA to the extent practicable.

Issued in Camp Hill, Pennsylvania, February 13, 2019.
Rick Harner,
Acting Manager, Harrisburg Airports District Office.

[FR Doc. 2019-02838 Filed 2-19-19; 8:45 am]

BILLING CODE 4910-13-P